DEPARTMENT OF ENERGY

Federal Energy Regulatory Commission

[Project No. 2145]

Rocky Reach; Notice of Site Visit

September 3, 2004.

The staff of the Division of Hydropower Licensing in the Office of Energy Projects at the Federal Energy Regulatory Commission is scheduled to have a site visit at the Rocky Reach Hydroelectric Project (FERC No. 2145). The site visit will be conducted at various sites of the project including the dam, the powerhouse, the tailrace area, and others.

The Commission staff will meet representative(s) of the applicant (Public Utility District No. 1 of Chelan County) on Wednesday, September 15, 2004 at 10 a.m. (PST) at the Rocky Reach Visitor Center located on the west end of the forebay wall on the Chelan County side of the project on Highway 97A in Wenatchee, Washington.

Members of the public and intervenors in the referenced proceedings may attend this site visit. For more information, contact Kim Nguyen, at the Federal Energy Regulatory Commission, 202-502-6105 or kim.nguyen@ferc.gov.

Magalie R. Salas,
Secretary.

[FR Doc. E4-2159 Filed 9-10-04; 8:45 am]

BILLING CODE 6717-01-P